DEPARTMENT OF LABOR

Employment and Training Administration

[TA-W-80,014]

Geneon Entertainment (USA) Including On-Site Leased Workers From Interplace, Inc., Apple One and Robert Half Legal Santa Monica, CA; Amended Certification Regarding Eligibility To Apply for Worker Adjustment Assistance and Alternative Trade Adjustment Assistance

In accordance with Section 223 of the Trade Act of 1974 (19 U.S.C. 2273), and Section 246 of the Trade Act of 1974 (26 U.S.C. 2813), as amended, the Department of Labor issued a Certification of Eligibility to Apply for Worker Adjustment Assistance and Alternative Trade Adjustment Assistance on June 14, 2011, applicable to workers of Geneon Entertainment (USA), including on-site leased workers from Interplace, Inc., and Apple One, Santa Monica, California. The workers are engaged in activities related to the production of DVD masters. The notice was published in the Federal Register on July 8, 2011 (76 FR 40401).

At the request of a company official, the Department reviewed the certification for workers of the subject firm. New information shows that workers leased from Robert Half Legal were employed on-site at the Santa Monica, California location of Geneon Entertainment (USA). The Department has determined that these workers were sufficiently under the control of Geneon Entertainment (USA) to be considered leased workers.

The intent of the Department's certification is to include all workers of Geneon Entertainment (USA) who were adversely affected by increased imports following a shift in the production of DVD masters to a foreign country.

Based on these findings, the Department is amending this certification to include workers leased from Robert Half Legal working on-site at the Santa Monica, California location of the subject firm.

The amended notice applicable to TA-W-80,014 is hereby issued as follows:

All workers of Geneon Entertainment (USA), Inc., including on-site leased workers from Interplace, Inc., Apple One and Robert Half Legal, Santa Monica, California, who became totally or partially separated from employment on or after March 1, 2010 through June 14, 2013, are eligible to apply for adjustment assistance under Section 223 of the Trade Act of 1974, and are also eligible to apply for alternative trade adjustment assistance under Section 246 of the Trade Act of 1974.

Signed at Washington, DC, this 20th day of September 2011.
Michael W. Jaffe,
Certifying Officer, Office of Trade Adjustment Assistance.

[FR Doc. 2011-25720 Filed 10-4-11; 8:45 am]

BILLING CODE 4510-FN-P